NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 76 FR 76441, and no comments were received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725—17th Street NW., Room 10235, Washington, DC 20503, and to Suzanne H. Plimpton, Reports Clearance Officer, National Science Foundation, 4201 Wilson Boulevard, Suite 295, Arlington, Virginia 22230 or send email to splimpto@nsf.gov. Comments regarding this information collection are best assured of having their full effect if received within 30 days of this notification. Copies of the submission(s) may be obtained by calling 703-292-7556.

FOR FURTHER INFORMATION CONTACT: Suzanne H. Plimpton at (703) 292-7556 or send email to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION:

Title of Collection: Survey of Laboratory Equipment Donations for Schools.

OMB Control No.: 3145-NEW.

Abstract

The National Science Foundation (NSF) requests a three-year clearance for data collection and research related to laboratory equipment donations to schools. The goal of this study is to comply with the America Competes Act, Public Law 100-69, Section 7027, which calls for a study on laboratory equipment donations for schools. The law states: “Not later than 2 years after the date of enactment of this Act, [August 9, 2007], the Director [of the National Science Foundation] shall transmit a report to Congress examining the extent to which institutions of higher education and entities in the private sector are donating used laboratory equipment to elementary schools and secondary schools. The Director * * * shall survey institutions of higher education and entities in the private sector to determine—

(1) How often, how much, and what type of equipment is donated;

(2) what criteria or guidelines the institutions and entities are using to determine what types of equipment can be donated, what condition the equipment should be in, and which schools receive the equipment;

(3) whether the institutions and entities provide any support to, or follow-up with the schools; and

(4) how appropriate donations can be encouraged.” Under a grant from NSF, the American Institutes for Research (AIR) has designed a sample of institutions of higher education (IHEs) drawn from the Integrated Postsecondary Education Data System (IPEDS) using the 2007-2008 school year. IHEs were selected with Carnegie group (2005) based on their total research spending. The assumption is that schools with higher research spending are most likely to donate equipment, so the sample is weighted to capture IHEs with higher levels of spending. In addition to IHEs, large corporations that have demonstrated a commitment to science, technology, engineering, and mathematics (STEM) education will also be surveyed. This will be a population survey of members of Change the Equation, an independent non-profit organization that is a component of President Obama's “Educate to Innovate” initiative. These corporations will represent “entities in the private sector” that Congress mandated be surveyed.

Basic analyses will include descriptive statistics on each category of information requested by Congress broken out by Carnegie classification of IHEs, level of IHE research spending, and industry sector and size of private entities. Data will also include summaries of feedback provided by respondents on how appropriate donations can be encouraged. NSF will use the resulting data and analyses primarily to respond to the aforementioned congressional request for information. NSF will also share the information with the educational research community; professional education associations, especially those focused on science, academia; K-12 schools, especially science teachers; and the general public.

Respondents: Individuals, State, Local or Tribal Government, not-for-profit institutions, and for-profit institutions (i.e., corporations). Respondents will be persons representing these entities who have been identified as familiar with their organization's disposal of surplus laboratory equipment.

Estimated Number of Respondents: 172.

Burden on the Public: 86 hours.

Dated: August 8, 2012.
Suzanne H. Plimpton,
Reports Clearance Officer, National Science Foundation.

[FR Doc. 2012-19849 Filed 8-13-12; 8:45 am]

BILLING CODE 7555-01-P